ENVIRONMENTAL PROTECTION AGENCY

40 CFR Part 52

[EPA-R09-OAR-2025-0056; FRL-12601-01-R9]

Air Plan Revisions; California; Antelope Valley Air Quality Management District; New Source Review; Stationary Source Permits

AGENCY: Environmental Protection Agency (EPA).

ACTION: Proposed rule.

SUMMARY: The Environmental Protection Agency (EPA) is proposing approval of six permitting rules, and limited approval and limited disapproval for one permitting rule, submitted on January 7, 2025, as a revision to the Antelope Valley Air Quality Management District (AVAQMD or “District”) portion of the California State Implementation Plan (SIP). These revisions concern the District's New Source Review (NSR) permitting program for new and modified sources of air pollution under part D of title I of the Clean Air Act (CAA or “Act”). The submitted rules address deficiencies identified in a previous limited disapproval action and incorporate other revisions related to NSR requirements. If finalized, this action will update the AVAQMD's current SIP with the revised rules. We are taking comments on this proposal and plan to follow with a final action. Elsewhere in this Federal Register, we are making an interim final determination that will stay or defer the imposition of CAA sanctions associated with our previous limited disapproval action.

DATES: Comments must be received on or before April 25, 2025.

ADDRESSES: Submit your comments, identified by Docket ID No. EPA-R09-OAR-2025-0056, at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Shaheerah Kelly, U.S. Environmental Protection Agency, Region IX (AIR-3-2), phone: (415) 947-4156, email: kelly.shaheerah@epa.gov.

SUPPLEMENTARY INFORMATION: Throughout this document, “we,” “us,” and “our” refer to the EPA.

Table of Contents

I. The State's Submittal

A. What rules are in the current SIP?

B. What rules did the State submit?

C. What is the purpose of the submitted rule revisions?

II. The EPA's Evaluation and Action

A. How is the EPA evaluating the rules?

B. Do the rules meet the evaluation criteria?

C. How are the previously identified rule deficiencies resolved?

D. What are the new rule deficiencies?

E. How were the EPA's recommendations to further improve the rules addressed?

F. Proposed Action and Public Comment

III. Incorporation by Reference

IV. Statutory and Executive Order Reviews

Definitions

For the purpose of this document, we are giving meaning to certain words or initials as follows:

(i) The word or initials AVAQMD or District mean or refer to the Antelope Valley Air Quality Management District.

(ii) The word or initials CAA or Act mean or refer to the Clean Air Act, unless the context indicates otherwise.

(iii) The word or initials CARB mean or refer to the California Air Resources Board.

(iv) The initials CFR mean or refer to Code of Federal Regulations.

(v) The initials or words EPA, we, us, or our mean or refer to the United States Environmental Protection Agency.

(vi) The initials NA mean or refer to nonattainment.

(vii) The initials NAAQS mean or refer to the National Ambient Air Quality Standards.

(viii) The initials NSR mean or refer to New Source Review.

(ix) The initials NNSR mean or refer to nonattainment New Source Review.

(x) The initials SIP mean or refer to State Implementation Plan.

(xi) The word State means or refers to the State of California.

(xii) The word TSD means or refers to the Technical Support Document.

I. The State's Submittal

A. What rules are in the current SIP?

Table 1 lists the rules in the current SIP with the dates they were adopted or amended by the AVAQMD, submitted by the California Air Resources Board (CARB), the governor's designee for California SIP submittals, and approved by the EPA.

Table 1—Current SIP Rules
District rule No. | Title/subject | State effective date | EPA approval date
1300 | New Source Review General | 7/20/2021 | 7/3/2023 (88 FR 42621).
1301 | New Source Review Definitions | 7/20/2021 | 7/3/2023 (88 FR 42621).
1302 (except 1302(C)(5) and 1302(C)(7)(c)) | New Source Review Procedure | 7/20/2021 | 7/3/2023 (88 FR 42621).
1303 | New Source Review Requirements | 7/20/2021 | 7/3/2023 (88 FR 42621).
1304 | New Source Review Emissions Calculations | 7/20/2021 | 7/3/2023 (88 FR 42621).
1305 | New Source Review Emissions Offsets | 7/20/2021 | 7/3/2023 (88 FR 42621).
1306 | New Source Review for Electric Energy Generating Facilities | 7/20/2021 | 7/3/2023 (88 FR 42621).
1309 | Emission Reduction Credit Banking | 7/20/2021 | 7/3/2023 (88 FR 42621).

B. What rules did the State submit?

CARB provided a submittal to the EPA on January 7, 2025 (hereafter referred to as the “2025 Submittal”), for revisions to the AVAQMD's NSR permitting program in the California SIP.

CARB's 2025 Submittal provided the amended NSR permitting program rules listed in Table 2 that were adopted by the AVAQMD and submitted by CARB for inclusion in the SIP. If finalized as proposed, the submitted rules listed in Table 2 would replace the current EPA-approved SIP rules that are listed in Table 1.

Table 2—Submitted Rules
District rule No. | Title/subject | Amended or adopted | Amendment or adoption date | Submittal date ᵃ
1301 | New Source Review Definitions | Amended | 12/30/2024 | 1/7/2025
1302 ᵇ (except 1302(C)(5) and 1302(C)(7)(c)) | New Source Review Procedures | Amended | 12/30/2024 | 1/7/2025
1303 | State New Source Review Requirements | Amended | 12/30/2024 | 1/7/2025
1304 | State New Source Review Emissions Calculations | Amended | 12/30/2024 | 1/7/2025
1305 | State New Source Review Emissions Offsets | Amended | 12/30/2024 | 1/7/2025
1309 | Emission Reduction Credit Banking | Amended | 12/30/2024 | 1/7/2025
1314 | Federal Nonattainment New Source Review for Ozone Precursors | Adopted (New Rule) | 12/30/2024 | 1/7/2025
ᵃ The submittal for Rules 1301, 1302, 1303, 1304, 1305, 1309, and 1314 was transmitted to the EPA via a letter from CARB dated January 6, 2025.
ᵇ Subsections 1302(C)(5)(d) and 1302(C)(7)(c)(iii) of Rule 1302 specifically state that subsections 1302(C)(5) and 1302(C)(7)(c) are not submitted to the EPA and are not intended to be included as part of the California SIP.

Section 110(k)(1)(B) of the CAA requires the EPA to determine whether a SIP submission is complete within 60 days of receipt. The EPA's SIP completeness criteria are found in 40 CFR part 51, appendix V. Based on our review of the public process documentation for the AVAQMD's 2025 Submittal, we find that the District has provided sufficient evidence of public notice and opportunity for public comment and held public hearings prior to adoption and submittal of these rules to the EPA pursuant to 40 CFR part 51, appendix V, and fulfills the completeness criteria of appendix V.

C. What is the purpose of the submitted rule revisions?

The rules listed in Table 2 are intended to replace the rules currently in the SIP as listed in Table 1. The submitted rules are also intended to satisfy the general (minor) NSR and nonattainment NSR (NNSR) requirements of section 110(a)(2)(C) of the Act, and the NNSR requirements of part D of title I of the Act. The rules also are intended to satisfy the EPA's implementing regulations at title 40 of the Code of Federal Regulations (CFR) part 51. Minor NSR requirements are generally applicable for SIPs in all areas, while NNSR requirements apply only in areas designated as nonattainment for one or more National Ambient Air Quality Standards (NAAQS). The submitted rules are also intended to resolve deficiencies identified in our July 3, 2023 final NSR action (“2023 NSR Action”) ¹ that included a limited disapproval of Rules 1301, 1302, 1303, 1304, 1305, and 1309, as amended on July 20, 2021.

¹ 88 FR 42621.

The AVAQMD is currently designated as a “Severe” nonattainment area for the 2008 and 2015 ozone NAAQS and is designated as attainment or unclassified for the nitrogen dioxide, carbon monoxide, particulate matter equal to or less than 10 micrometers (PM10), particulate matter equal to or less than 2.5 micrometers (PM2.5), sulfur dioxide, and lead NAAQS.² The designation of AVAQMD as a federal ozone nonattainment area triggered the requirement for the District to develop and submit a NNSR program to the EPA for approval into the California SIP. The EPA's technical support document (TSD) has more information about the purposes of the submitted rules and the District's revisions.

² See 40 CFR 81.305.

II. The EPA's Evaluation and Action

A. How is the EPA evaluating the rules?

The EPA has reviewed the AVAQMD amended rules listed in Table 2 for compliance with the CAA requirements as follows: (1) the general SIP requirements as set forth in CAA section 110(a)(2), including 110(a)(2)(A) and 110(a)(2)(E)(i); (2) the stationary source preconstruction permitting program requirements as set forth in CAA part D of title I, including CAA sections 172(c)(5), 173, and 182; (3) the requirements for the review and modification of major sources in accordance with 40 CFR 51.160-51.165 as applicable in Severe ozone nonattainment areas; (4) the requirements for the review of new major stationary sources or major modifications in a designated nonattainment area that may have an impact on visibility in any mandatory Class I federal area in accordance with 40 CFR 51.307; (5) the SIP revision requirements as set forth in CAA sections 110(l) and 193; and (6) the provisions of CAA section 302(z).

Sections 110(a)(2) and 110(l) of the Act require that each SIP or revision to a SIP submitted by the State must be adopted after reasonable notice and public hearing. In addition, section 110 of the Act requires that SIP rules be enforceable. Section 110(a)(2)(C) of the Act requires each SIP to include a program to regulate the modification and construction of any stationary source within the areas covered by the SIP as necessary to assure attainment and maintenance of the NAAQS.

Part D of title I of the Act contains the general requirements for areas designated nonattainment for a NAAQS (section 172), referred to as nonattainment NSR (NNSR), including preconstruction permit requirements for new major sources and major modifications proposing to construct in nonattainment areas (section 173) and the de minimis plan provisions for Severe nonattainment areas (sections 182(c)(6) and 182(d)).

The EPA's regulations at 40 CFR 51.160-51.164 provide general programmatic requirements to implement the statutory mandate under section 110(a)(2)(C) of the Act that is commonly referred to as the “general” or “minor” NSR program. These NSR program regulations impose requirements for approval of state and local programs that are more general in nature as compared to the specific statutory and regulatory requirements for NSR permitting programs under part D of title I of the Act.

The EPA's regulations at 40 CFR 51.165 set forth the EPA's regulatory requirements for SIP approval of a nonattainment NSR permit program. Our review also evaluated the submittal for compliance with the NNSR requirements applicable to Severe ozone nonattainment areas and ensured that the submittal addressed the NNSR requirements for the 2008 and 2015 ozone NAAQS.

Section 169A of the Act specifies that the EPA must promulgate regulations requiring states to provide for visibility protection for mandatory Class I Federal areas. The EPA's regulations at 40 CFR 51.307 set forth the protection of visibility requirements that apply to NSR programs. This provision requires that certain actions be taken in consultation with the local Federal Land Manager if a new major source or major modification may have an impact on visibility in any mandatory Federal Class I Area.

Section 110(l) of the Act prohibits the EPA from approving any SIP revisions that would interfere with any applicable requirement concerning attainment and reasonable further progress or any other applicable requirement of the CAA.

Section 193 of the Act, which only applies in nonattainment areas, prohibits the modification of a SIP-approved control requirement in effect before November 15, 1990, in any manner unless the modification insures equivalent or greater emission reductions of such air pollutant.

Section 302(z) of the Act defines the term “Stationary Source” as generally any source of an air pollutant except those emissions resulting directly from an internal combustion engine for transportation purposes or from a nonroad engine or nonroad vehicle as defined in title II of the Act.

Our TSD, which can be found in the docket for this rule, contains a more detailed discussion of the approval criteria.

B. Do the rules meet the evaluation criteria?

The EPA has reviewed the submitted rules listed in Table 2 in accordance with the rule evaluation criteria described in Section II.A. of this notice.

With respect to procedural requirements, CAA sections 110(a)(2) and 110(l) require SIP revisions to be adopted by the state after reasonable notice and public hearing. Based on our review of the public process documentation included in the 2025 Submittal for the amended rules listed in Table 2, we find that the AVAQMD has provided sufficient evidence of public notice, opportunity for comment, and a public hearing prior to the adoption and submittal of these rules to the EPA.

We have determined that the submitted rules satisfy the statutory and regulatory requirements in part D of the Act (including sections 172, 173, 182(c)(6) and 182(d)) and the relevant provisions of sections 110(a)(2) and 302(z) of the Act, as well as 40 CFR 51.160-51.165 and 51.307. We have also determined that the submitted rules address the deficiencies previously identified by the EPA.³ We describe how these deficiencies have been resolved in Section II.C. of this notice. Our TSD contains a more detailed evaluation.

³ 88 FR 42621.

C. How are the previously identified rule deficiencies resolved?

The 2025 Submittal resolves the deficiencies previously identified by the EPA in the 2023 NSR Action. The following sections briefly describe how the District's revisions address the deficiencies. Our TSD for this proposed action and the TSD for the 2023 NSR Action, which can be found in the docket for this proposed action, provide more information.

1. Simultaneous Emission Reductions (SERs) Calculation Methodology

The EPA previously determined that certain portions of Rules 1301, 1302, 1303, 1304, and 1305, as amended on July 20, 2021, were deficient and not fully approvable because Rule 1304 allowed the use of emission reductions called SERs to be calculated using a potential to emit (PTE)-to-PTE calculation method rather than an actual emissions-to-PTE calculation method. The EPA previously determined that the use of a PTE-to-PTE calculation method was inconsistent with CAA Section 173(c)(1)-(2), 40 CFR 51.165(a)(1)(vi)(E)(1), and 40 CFR 51.165(a)(3)(i)-(ii). The District revised its Regulation XIII rules (i.e., Rules 1301, 1302, 1303, 1304, 1305, and 1309) such that SERs are no longer allowed to be used as offsets in a manner that is inconsistent with the requirements of the CAA and 40 CFR 51.165. Additionally, the District adopted new Rule 1314 (Federal Nonattainment New Source Review For Ozone Precursors) on December 30, 2024, which complies with federal nonattainment NSR program requirements in CAA sections 172(c)(5), 173, 182(c)(6), 182(d), and in the implementing regulations in 40 CFR 51.165. Rule 1314 is used for determining whether a proposed project is a new Major Facility or a Major Modification (i.e., a new major stationary source or a major modification at an existing major stationary source). The requirements in the revised versions of Rules 1303, 1304, and 1305, as amended on December 30, 2024, primarily apply to projects subject to State requirements. Based on these revisions, the District has resolved the deficiencies previously identified by the EPA. The TSD for this action provides the specific rule revisions made by the District that were previously identified by the EPA as deficient and that are now approvable.

2. Calculation Method for Determining “Historic Actual Emissions” (“HAE”)

The EPA previously determined that Rule 1304(E)(2), as amended on July 20, 2021, which provided the calculation method for determining the HAE as it relates to emission changes at a Facility pursuant to 1304, was deficient because of a typographical error. The District corrected this error, and the District moved the requirements that were in Rule 1304(E)(2) to 1301(JJ), which is the definition of “Historic Actual Emissions (HAE).” The District revised its Regulation XIII rules (i.e., Rules 1301, 1302, 1303, 1304, 1305, and 1309) such that the requirements in Rules 1303, 1304, and 1305 no longer apply to its major nonattainment NSR program, and the emissions calculation procedures are now in Rule 1309 and new Rule 1314, as amended on December 30, 2024. Therefore, this deficiency is resolved.

3. Use of Contracts

The EPA previously determined that Rules 1302(D)(6)(a)(iii) (Issuance of PTO(s)), 1304(C)(4)(c) (Calculating Simultaneous Emissions Reductions), 1309(D)(3)(c) (Standards for Granting ERCs), and 1309(E)(6) (Transfer, Encumbrance, and Readjustment of ERCs; Transfer), as amended on July 20, 2021, were deficient because they would allow an owner or operator to use a “contract” in place of a permit. However, the District's NSR rules did not define the term “contract” or provide requirements for how a contract is an enforceable mechanism that may be used in the same way as a permit. The District revised these requirements to remove the term “contract.” Therefore, this deficiency is resolved.

4. Interprecursor Trading

The EPA previously determined that Rule 1305(C)(6) (Eligibility of Offsets; Interpollutant Offsets), as amended on July 20, 2021, was deficient because it allowed interprecursor trading (IPT) for the ozone precursors of VOC and NOX, which is not allowed under 40 CFR 51.165(a)(11).⁴ On December 30, 2024, the District revised Rule 1305(C)(6) to remove the IPT requirements, and revised its Regulation XIII rules such that the emissions calculation procedures in Rule 1309 and new Rule 1314 apply to projects subject to the District's federal nonattainment NSR program for any new Major Facility or any Major Modification. Therefore, this deficiency is resolved.

⁴ 86 FR 37918 (July 19, 2021).

5. De Minimis Requirements in CAA Sections 182(c)(6) and 182(d)

The EPA previously determined that the District's nonattainment NSR program rules were deficient because they did not contain the de minimis SIP requirements in Sections 182(c)(6) and 182(d) of the Act. The District added these requirements to 1314(C)(5) (Definition of “Federal Major Modification”), 1314(C)(8) (Definition of “Non-De minimis Emissions Increase”), 1314(E)(1)(b)(iii) (Calculation Procedures; Emissions), and 1314(E)(1)(b)(viii) (Calculation Procedures; Emissions) in new Rule 1314, as adopted on December 30, 2024. Therefore, this deficiency is resolved.

D. What are the new rule deficiencies?

Rule 1314 does not include the reasonable possibility requirements in 40 CFR 51.165(a)(6) and (7). This is a deficiency that may be resolved by including the requirements in 40 CFR 51.165(a)(6) and (7) in the Rule 1314.

E. How were the EPA's recommendations to further improve the rules addressed?

The rule revisions in the 2025 Submittal also address the previous EPA recommendations listed in the EPA's December 2022 TSD for Rule 1301(G), 1302(D)(5)(b)(iii), 1304(C)(1), 1304(C)(2)(d), 1304(E)(3)(a)(iii), 1305(C)(4)(a)(ii), and 1309(E)(4) in the 2023 NSR Action. These items do not affect the EPA's approvability of this current action. The TSD for this action provides more information on this.

F. Proposed Action and Public Comment

The EPA is proposing approval of AVAQMD Rules 1301, 1302 (except 1302(C)(5) and 1302(C)(7)(c)), 1303, 1304, 1305, and 1309 as authorized in section 110(k)(3) of the Act. If a portion of a plan revision meets all the applicable CAA requirements, CAA section 110(k)(3) authorizes the EPA to approve the plan revision.

The 2023 NSR Action triggered an obligation on the EPA to promulgate a Federal Implementation Plan (FIP), unless the AVAQMD submitted a SIP revision to correct the deficiencies that were the basis for the limited disapproval and the EPA then approved the related plan revisions within two years of the final action. Additionally, since the AVAQMD is a nonattainment area for the 2008 and 2015 8-hour ozone NAAQS, the 2023 NSR Action triggered the offset sanction in CAA section 179(b)(2) for the nonattainment area 18 months after the effective date of a final limited approval and limited disapproval. The 2023 NSR Action also will trigger the highway funding sanctions in CAA section 179(b)(1) for the nonattainment area six months after the offset sanction is imposed unless the highway funding sanction is deferred. The EPA has determined that the revised and adopted rules 1301, 1302, 1303, 1304, 1305, and 1309 resolve, and correct, the deficiencies previously identified by the EPA in the 2023 NSR Action. Also, the EPA's action, if finalized, will remove any requirement to promulgate a FIP or impose sanctions or offsets under section 179(b) of the CAA that stem from the 2023 NSR Action.

The EPA is also proposing a limited approval and limited disapproval of Rule 1314 as authorized in sections 110(k)(3) and 301(a) of the Act because although it fulfills most of the relevant CAA requirements and strengthens the SIP, it also contains a deficiency as discussed in Section II.D of this notice.

If finalized as proposed, our limited approval and limited disapproval action will trigger an obligation on the EPA to promulgate a FIP unless the AVAQMD submits a SIP revision to correct the deficiencies that are the basis for our limited approval and limited disapproval and the EPA then approves the related plan revisions within two years of the final action. Additionally, the offset sanction in CAA section 179(b)(2) would apply in the nonattainment areas at issue 18 months after the effective date of a final limited approval and limited disapproval, and the highway funding sanctions in CAA section 179(b)(1) would apply in these areas six months after the offset sanction is imposed. Section 179 sanctions will not be imposed under the CAA if the AVAQMD submits, and we approve, prior to the implementation of the sanctions, SIP revisions that correct any deficiencies that we identify in a final action.

Regarding the additional substantive requirements of CAA sections 110(l) and 193, our proposed action will result in a more stringent SIP, while not relaxing any existing provision contained in the SIP. We have concluded that our action would comply with section 110(l) because it will not interfere with any applicable requirement concerning attainment and reasonable further progress and will not interfere with any other applicable CAA requirement. In addition, our proposed action will not relax any pre-November 15, 1990 requirement in the SIP. Therefore, the changes to the SIP resulting from this action ensure greater or equivalent emission reductions of ozone and its precursors in the District. Accordingly, we have concluded that our action is consistent with the requirements of CAA section 193.

If we finalize this action as proposed, our action will be codified through revisions to 40 CFR 52.220 (Identification of plan—in part).

We will accept comments from the public on this proposal until April 25, 2025.

III. Incorporation by Reference

In this action, the EPA is proposing to include in a final EPA rule regulatory text that includes incorporation by reference. In accordance with requirements of 1 CFR 51.5, the EPA is proposing to incorporate by reference the AVAQMD rules described in Table 2 of this preamble. These rules implement the District's nonattainment NSR program. The EPA has made, and will continue to make, these materials available through https://www.regulations.gov and in hard copy at the EPA Region IX Office (please contact the person identified in the FOR FURTHER INFORMATION CONTACT section of this preamble for more information).

IV. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the Act. Accordingly, this proposed action merely proposes to approve state law as meeting federal requirements and does not impose additional requirements beyond those imposed by state law. For that reason, this proposed action:

• Is not a significant regulatory action subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it does not concern an environmental health risk or safety risk;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Administrative practice and procedure, Air pollution control, Incorporation by reference, Intergovernmental relations, Nitrogen dioxide, Ozone, Particulate matter, Reporting and recordkeeping requirements, Sulfur dioxide, Volatile organic compounds.

Authority: 42 U.S.C. 7401 et seq.

Dated: March 7, 2025.
Cheree D. Peterson,
Acting Regional Administrator, Region IX.

[FR Doc. 2025-05156 Filed 3-25-25; 8:45 am]

BILLING CODE 6560-50-P